DEPARTMENT OF THE TREASURY

Submission for OMB Review; Comment Request

September 30, 2008.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before November 5, 2008 to be assured of consideration.

Internal Revenue Service (IRS)

OMB Number: 1545-0939.

Type of Review: Extension.

Title: Interest Charge on DISC-Related Deferred Tax Liability.

Forms: 8404.

Description: Shareholders of Interest Charge Domestic International Sales Corporations (IC-DISCs) use Form 8404 to figure and report an interest charge on their DISC-related deferred tax liability. The interest charge is required by Internal Revenue Code section 995(f). IRS uses Form 8404 to determine whether the shareholder has correctly figured and paid the interest charge on a timely basis.

Respondents: Businesses or other for-profit institutions.

Estimated Total Burden Hours: 17,600 hours.

OMB Number: 1545-1632.

Type of Review: Extension.

Title: REG-118662-98 (Final) New Technologies in Retirement Plans.

Description: These regulations provide that certain notices and comments required in connection with distributions from retirement plans may be transmitted through electronic media. The regulations also modify the timing requirements for provision of certain distribution-related notices.

Respondents: Businesses or other for-profits.

Estimated Total Burden Hours: 477,563 hours.

OMB Number: 1545-1797.

Type of Review: Extension.

Title: REG-106876-00 (Final), Revision of Income Tax Regulations under Sections 897, 1445, and 6109 to require use of Taxpayer Identifying Numbers on Submission under the Section 897 and 1445.

Description: The collection of information relates to applications for withholding certificates under Treas. Reg. 1.1445-1 to be filed with the IRS with respect to (1) dispositions of U.S. real property interests that have been used by foreign persons as a principle residence within the prior 5 years and excluded from gross income under section 121 and (2) dispositions of U.S. real property interests by foreign persons in deferred like kind exchanges that qualify for nonrecognition under section 1031.

Respondents: Businesses or other for-profits.

Estimated Total Burden Hours: 600 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Celina Elphage,
Treasury PRA Clearance Officer.

[FR Doc. E8-23533 Filed 10-3-08; 8:45 am]

BILLING CODE 4830-01-P